DEPARTMENT OF COMMERCE

National Oceanic and Atmospheric Administration

RIN 0648-XC257

Caribbean Fishery Management Council (CFMC); Public Meeting

AGENCY: National Marine Fisheries Service (NMFS), National Oceanic and Atmospheric Administration (NOAA), Commerce.

ACTION: Notice of a public meeting.

SUMMARY: The Caribbean Fishery Management Council's (Council) Outreach and Education Advisory Panel (OEAP) will hold a meeting.

DATES: The OEAP meeting will be held on October 30, 2012, from 9 a.m. to 5 p.m.

ADDRESSES: The meeting will be held at the Verdanza Hotel, 8020 Tartak St., Isla Verde, Puerto Rico.

FOR FURTHER INFORMATION CONTACT: Caribbean Fishery Management Council, 268 Muñoz Rivera Avenue, Suite 1108, San Juan, Puerto Rico 00918-1920, telephone: (787) 766-5926.

SUPPLEMENTARY INFORMATION: The OEAP will meet to discuss the items contained in the following agenda:

—Call to order

—OEAP President report

—143rd CFMC meeting

—2013 Calendar subgroup meeting

—Status of Outreach and Education Strategic Plan

—Recommendations received

—O & E Proposals received (USVI, UPRSG)

—Ongoing activities

—2013 Calendar

—Newsletter

—Web page

—Fact Sheets

—CFMC brochure

—Other Business

—Next OEAP meeting

The meeting is open to the public, and will be conducted in English. Fishers and other interested persons are invited to attend and participate with oral or written statements regarding agenda issues.

Although non-emergency issues not contained in this agenda may come before this group for discussion, those issues may not be the subject of formal action during this meeting. Action will be restricted to those issues specifically listed in this notice and any issues arising after publication of this notice that require emergency action under section 305(c) of the Magnuson-Stevens Fishery Conservation and Management Act, provided the public has been notified of the Council's intent to take final action to address the emergency.

Special Accommodations

This meeting is physically accessible to people with disabilities. For more information or request for sign language interpretation and/other auxiliary aids, please contact Mr. Miguel A. Rolón, Executive Director, Caribbean Fishery Management Council, 268 Muñoz Rivera Avenue, Suite 1108, San Juan, Puerto Rico, 00918-1920, telephone: (787) 766-5926, at least 5 days prior to the meeting date.

Dated: September 28, 2012.
Tracey L. Thompson,
Acting Deputy Director, Office of Sustainable Fisheries, National Marine Fisheries Service.

[FR Doc. 2012-24313 Filed 10-2-12; 8:45 am]

BILLING CODE 3510-22-P